Proclamation 9654 of October 6, 2017

National School Lunch Week, 2017

By the President of the United States of America

A Proclamation

The health and well-being of our children is vital to the success of our Nation. When our Nation's youth have their basic needs fulfilled, they can better focus on succeeding in school and in life. During National School Lunch Week, we recognize the benefits that school lunch programs offer to our communities and to our Nation's future.

The National School Lunch Program is a partnership between Federal, State, and local governments working together to facilitate the health and development of our Nation's children. Since its inception more than 70 years ago, millions of students have received low-cost or free meals and learned life-long healthy eating habits. Today, the National School Lunch Program serves more than 31 million students every school day, at nearly 100,000 schools and residential child-care institutions across our Nation.

For many children, school lunch may be their most substantial meal of the day. Adequate nutrition is essential to a child's mental, physical, and emotional well-being, and students who lack sufficient vitamins and minerals, such as iron, vitamin E, vitamin B, thiamine, iodine, and zinc, may suffer from inhibited cognitive functioning and a diminished ability to concentrate. Poor nutrition, especially from excess sugar consumption, may also lead to behavioral problems. School lunches, in addition to providing balanced nutrition, can teach students the relationship between nutrition and classroom performance.

The Congress created the National School Lunch Act to, “safeguard the health and well-being of the Nation's children.” More than seven decades later, dedicated Americans continue to work to ensure the nutritional health of our greatest treasure—our young people. During National School Lunch Week, we recognize the food service professionals, school administrators, community members, parents, and all those who dedicate themselves to the health of our schoolchildren. To emphasize the importance of the National School Lunch Program to our youth's nutrition, the Congress, by joint resolution of October 9, 1962 (Public Law 87-780), as amended, has designated the week beginning on the second Sunday in October each year as “National School Lunch Week” and has requested the President to issue a proclamation in observance of this week.

NOW, THEREFORE, I, DONALD J. TRUMP, President of the United States of America, by virtue of the authority vested in me by the Constitution and the laws of the United States, do hereby proclaim October 8 through October 14, 2017, as National School Lunch Week. I call upon all Americans to join the countless individuals who administer the National School Lunch Program in activities that support and promote awareness of the health and well-being of our Nation's children.

IN WITNESS WHEREOF, I have hereunto set my hand this sixth day of October, in the year of our Lord two thousand seventeen, and of the Independence of the United States of America the two hundred and forty-second.

[FR Doc. 2017-22419

Filed 10-12-17; 11:15 am]

Billing code 3295-F8-P